DEPARTMENT OF THE INTERIOR

Bureau of Land Management

[UT-910-08-1120-PH-24-1A]

Call for Nominations for Utah's Resource Advisory Council

AGENCY: Bureau of Land Management, Department of Interior.

ACTION: Call for Nominations for Utah's Resource Advisory Council.

SUMMARY: The purpose of this notice is to request public nominations to fill one position in Category Two for Utah's Resource Advisory Council. The RACs provide advice and recommendations to BLM on land use planning and management of the public lands within their geographic areas.

DATES: Send all nominations to the Utah Bureau of Land Management (BLM) no later than September 8, 2008.

ADDRESSES: Nominations should be sent to the BLM, ATTN: Sherry Foot, 440 West 200 South, Salt Lake City, Utah 84101.

FOR FURTHER INFORMATION CONTACT: Sherry Foot, Special Programs Coordinator, Utah State Office, Bureau of Land Management, P.O. Box 45155, Salt Lake City, Utah, 84145-0155; phone (801) 539-4195.

SUPPLEMENTARY INFORMATION: The Federal Land Policy and Management Act (FLPMA) (43 U.S.C. 1730) directs the Secretary of the Interior to involve the public in planning and issues related to management of lands administered by BLM.

Category Two—Representatives of nationally or regionally recognized environmental organizations, archaeological and historic organizations, dispersed recreation activities, and wild horse and burro organizations.

Individuals may nominate themselves or others. Nominees must be residents of Utah. The BLM will evaluate nominees based on their education, training, experience, and their knowledge of the geographical area of the RAC. Nominees should demonstrate a commitment to collaborative resource decision making. The following must accompany all nominations:

—Letters of reference from represented interests or organizations;

—A completed background information nomination form; and

—Any other information that speaks to the nominee's qualifications.

Simultaneous with this notice, Utah BLM's State Office will issue a press release providing additional information for submitting nominations.

Dated: July 16, 2008.
Jeff Rawson,
State Director.

[FR Doc. E8-17125 Filed 7-24-08; 8:45 am]

BILLING CODE 4310-DQ-P